COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add products and a service to the Procurement List that will be furnished by nonprofit agencies employing persons who are blind or have other severe disabilities.

DATES: Comments must be received on or before: April 14, 2019.

ADDRESSES: Committee for Purchase From People Who Are Blind or Severely Disabled, 1401 S. Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSNs—Product Names:

MR 10777—Platters, Christmas, Red, Includes Shipper 20777

MR 10778—Platters, Christmas, Blue, Includes Shipper 20777

MR 10742—Skewer, Marshmallow, Includes Shipper 20742

Mandatory Source of Supply: Winston-Salem Industries for the Blind, Inc., Winston-Salem, NC

Mandatory for Contracting Activity: Military Resale-Defense Commissary Agency

7930-00-NIB-2184—Towelettes, Lens Cleaning, Pocket Sized

Mandatory Source of Supply: West Texas Lighthouse for the Blind, San Angelo, TX

Mandatory For: Total Government Requirement

Contracting Activity: FEDERAL ACQUISITION SERVICE, GSA/FSS GREATER SOUTHWEST ACQUISITI

Service

Service Type: IT Support Service

Mandatory for Contracting Activity: DoD, Defense Health Agency, Health Information Technology Directorate, Falls Church, VA

Mandatory Source of Supply: Global Connections to Employment (GCE), Inc., Pensacola, FL

Patricia Briscoe,
Deputy Director, Business Operations (Pricing and Information Management).

[FR Doc. 2019-04890 Filed 3-14-19; 8:45 am]

BILLING CODE 6353-01-P